DEPARTMENT OF COMMERCE

International Trade Administration

[C-570-971]

Multilayered Wood Flooring From the People's Republic of China: Preliminary Results of Countervailing Duty Administrative Review; 2011

AGENCY: Enforcement and Compliance, formerly Import Administration, International Trade Administration, Department of Commerce.

SUMMARY: The Department of Commerce (the Department) is conducting an administrative review of the countervailing duty (CVD) order on multilayered wood flooring (wood flooring) from the People's Republic of China (PRC). The period of review (POR) is April 6, 2011, through December 31, 2011. This review covers multiple exporters/producers, two of which are being individually reviewed as mandatory respondents, and another is being individually reviewed as a voluntary respondent. We preliminarily find that the mandatory respondents, Armstrong Wood Products (Kunshan) Co., Ltd. (Armstrong) and The Lizhong Wood Industry Limited Company of Shanghai (Lizhong) (also known as, “Shanghai Lizhong Wood Products Co., Ltd.”), as well as the voluntary respondent, Fine Furniture (Shanghai) Limited (Fine Furniture), received countervailable subsidies during the POR. The mandatory respondents' CVD rates have been used to calculate the rate applied to the other firms subject to this review. The Department also intends to rescind the review of one company, Changzhou Hawd Flooring Co., Ltd., that timely certified that it had no shipments of subject merchandise to the United States during the POR. Interested parties are invited to comments on these preliminary results.

DATES: Effective Date: January 27, 2014.

FOR FURTHER INFORMATION CONTACT: Catherine Cartsos, Mary Kolberg, Joshua Morris, or Austin Redington, AD/CVD Operations, Office I, Enforcement and Compliance, International Trade Administration, U.S. Department of Commerce, 14th Street and Constitution Avenue NW., Washington, DC 20230; telephone: (202) 482-1757, (202) 482-1785, (202) 482-1779, or (202) 482-1664, respectively.

Scope of the Order

Multilayered wood flooring is composed of an assembly of two or more layers or plies of wood veneer(s) ¹ in combination with a core. Imports of the subject merchandise are provided for under the following subheadings of the Harmonized Tariff Schedule of the United States (HTSUS): 4412.31.0520; 4412.31.0540; 4412.31.0560; 4412.31.2510; 4412.31.2520; 4412.31.4040; 4412.31.4050; 4412.31.4060; 4412.31.4070; 4412.31.5125; 4412.31.5135; 4412.31.5155; 4412.31.5165; 4412.31.6000; 4412.31.9100; 4412.32.0520; 4412.32.0540; 4412.32.0560; 4412.32.2510; 4412.32.2520; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5710; 4412.99.6000; 4412.99.7000; 4412.99.8000; 4412.99.9000; 4412.99.9500; 4418.71.2000; 4418.71.9000; 4418.72.2000; and 4418.72.9500.

¹ A “veneer” is a thin slice of wood, rotary cut, sliced or sawed from a log, bolt or flitch. Veneer is referred to as a ply when assembled.

While HTSUS subheadings are provided for convenience and customs purposes, the written product description remains dispositive.

A full description of the scope of the order is contained in the memorandum from Thomas Gilgunn, Acting Director, Office I, Antidumping and Countervailing Duty Operations to Christian Marsh, Deputy Assistant Secretary for Antidumping and Countervailing Duty Operations, “Decision Memorandum for Preliminary Results of Countervailing Duty Administrative Review: Multilayered Wood Flooring from the People's Republic of China” dated concurrently with this notice (Preliminary Decision Memorandum), which is hereby adopted by this notice.

The Preliminary Decision Memorandum is a public document and is on file electronically via Enforcement and Compliance's Antidumping and Countervailing Duty Centralized Electronic Service System (IA ACCESS). IA ACCESS is available to registered users at http://iaaccess.trade.gov and in the Central Records Unit, room 7046 of the main Department of Commerce building. In addition, a complete version of the Preliminary Decision Memorandum can be accessed directly on the internet at http://trade.gov/enforcement/. The signed Preliminary Decision Memorandum and the electronic versions of the Preliminary Decision Memorandum are identical in content.

Intent to Partially Rescind Administrative Review

On March 28, 2013, we received a timely filed no shipment certification from Changzhou Hawd Flooring Co., Ltd. Because there is no evidence on the record to indicate that this company had sales of subject merchandise during the POR, pursuant to 19 CFR 351.213(d)(3), the Department intends to rescind the review with respect to Changzhou Hawd Flooring Co., Ltd. A final decision regarding whether to rescind on this company will be made in the final results of this review.

Methodology

The Department has conducted this review in accordance with section 751(a)(1)(A) of the Tariff Act of 1930, as amended (the Act). For each of the subsidy programs found countervailable, we preliminarily determine that there is a subsidy, i.e., a government-provided financial contribution that gives rise to a benefit to the recipient, and that the subsidy is specific.² For a full description of the methodology underlying our conclusions, see Preliminary Decision Memorandum.

² See sections 771(5)(B)and (D) of the Act regarding financial contribution; section 771(5)(E) of the Act regarding benefit; and, section 771(5A) of the Act regarding specificity.

Preliminary Results of the Review

In accordance with 19 CFR 351.221(b)(4)(i), we calculated individual subsidy rates for the mandatory respondents, Armstrong and Lizhong, as well as for the voluntary respondent, Fine Furniture.

For the non-selected respondents, we have followed the Department's practice, which is to base the margin on an average of the subsidy rates calculated for those companies selected for individual review (i.e., the mandatory respondents), excluding de minimis rates or rates based entirely on adverse facts available.³ Therefore, we have preliminarily assigned to these companies the simple average of the rates calculated for Armstrong and Lizhong. We have used a simple average rather than a weighted average because weight averaging the rates of the mandatory respondents risks disclosure of proprietary information.

³ See, e.g., Certain Pasta From Italy: Preliminary Results of the 13th (2008) Countervailing Duty Administrative Review, 75 FR 18806, 18811 (April 13, 2010), unchanged in Certain Pasta from Italy: Final Results of the 13th (2008) Countervailing Duty Administrative Review, 75 FR 37386 (June 29, 2010).

We preliminarily find the net subsidy rate for the producers/exporters under review to be as follows:

Producer/Exporter | Net subsidy rate
Armstrong Wood Products (Kunshan) Co., Ltd. (also known as, “Armstrong Wood Products Kunshan Co., Ltd.”) | 0.90
The Lizhong Wood Industry Limited Company of Shanghai (also known as, “Shanghai Lizhong Wood Products Co., Ltd.”); Linyi Youyou Wood Co., Ltd. | 0.63
Fine Furniture (Shanghai) Limited; Great Wood (Tonghua) Limited; FF Plantation (Shishou) Limited | 1.32
A&W (Shanghai) Woods Co., Ltd | 0.77
Baishan Huafeng Wood Product Co., Ltd | 0.77
Baiying Furniture Manufacturer Co., Ltd | 0.77
Baroque Timber Industries (Zhongshan) Co., Ltd | 0.77
Changbai Mountain Development and Protection Zone Hongtu Wood Industry Co., Ltd | 0.77
Chinafloors Timber (China) Co., Ltd | 0.77
Dalian Dajen Wood Co., Ltd | 0.77
Dalian Huilong Wooden Products Co., Ltd | 0.77
Dalian Jiuyuan Wood Industry Co., Ltd | 0.77
Dalian Kemian Wood Industry Co., Ltd | 0.77
Dalian Penghong Floor Products Co., Ltd | 0.77
Dazhuang Floor Co. (dba Dasso Industrial Group Co., Ltd.) | 0.77
Dontai Fuan Universal Dynamics LLC | 0.77
Dunhua City Hongyuan Wood Industry Co., Ltd | 0.77
Dunhua City Wanrong Wood Industry Co., Ltd | 0.77
Dunhua Dexin Wood Industry Co., Ltd | 0.77
Dunhua Jisheng Wood Industry Co., Ltd | 0.77
Dun Hua City Jisen Wood Industry Co., Ltd | 0.77
Dun Hua Sen Tai Wood Co., Ltd., | 0.77
Fu Lik Timber (HK) Co., Ltd | 0.77
Fusong Jinlong Wooden Group Co., Ltd | 0.77
Fusong Qianqiu Wooden Group Co., Ltd | 0.77
Fusong Qianqiu Wooden Product Co., Ltd | 0.77
GTP International | 0.77
Guangdong Fu Lin Timber Technology Limited | 0.77
Guangdong Yihua Timber Industry Co., Ltd | 0.77
Guangzhou Jiasheng Timber Industry Co., Ltd | 0.77
Guangzhou Panyu Kangda Board Co., Ltd | 0.77
Guangzhou Panyu Southern Star Co., Ltd | 0.77
Guanghzhou Panyu Shatou Trading Co. Ltd | 0.77
HaiLin LinJing Wooden Products, Ltd | 0.77
Hunchun Forest Wolf Industry Co., Ltd | 0.77
Huzhou Chenghang Wood Co., Ltd | 0.77
Huzhou Fuma Wood Bus. Co., Ltd | 0.77
Huzhou Fulinmen Imp. & Exp. Co., Ltd | 0.77
Huzhou Jesonwood Co., Ltd | 0.77
Huzhou Sunergy World Trade Co., Ltd | 0.77
Jianfeng Wood (Suzhou) Co., Ltd | 0.77
Jiangsu Senmao Bamboo, Wood Industry Co., Ltd | 0.77
Jiangsu Simba Flooring Co., Ltd | 0.77
Jiazing Brilliant Import & Export Co., Ltd | 0.77
Jilin Forest Industry Jinqiao Flooring Group Co., Ltd | 0.77
Jilin Xinyuan Wooden Industry Co., Ltd | 0.77
Karly Wood Product Limited | 0.77
Kemian Wood Industry (Kunshan) Co., Ltd | 0.77
Kunming Alston (AST) Wood Products Co., Ltd | 0.77
Kushan Yingyi-Nature Wood Industry Co., Ltd | 0.77
Metropolitan Hardwood Floors, Inc | 0.77
MuDanJiang Bosen Wood Industry Co., Ltd | 0.77
Nakahiro Jyou Sei Furniture (Dalian) Co., Ltd | 0.77
Nanjing Minglin Wooden Industry Co., Ltd | 0.77
Power Dekor Group Co., Ltd | 0.77
Puli Trading Co., Ltd | 0.77
Riverside Plywood Corporation | 0.77
Sampling Elegant Living Trading (Labuan) Limited | 0.77
Samling Global USA, Inc | 0.77
Samling Riverside Co., Ltd | 0.77
Sennorwell International Group (Hong Kong) Limited | 0.77
Shanghai Demeijia Wooden Co., Ltd | 0.77
Shanghai Eswell Timber Co., Ltd | 0.77
Shanghai Lairunde Wood Co., Ltd | 0.77
Shanghai New Sihi Wood Co., Ltd | 0.77
Shanghai Shenlin Corp | 0.77
Shenyang Haobainian Wood Co | 0.77
Shenyang Sende Wood Co., Ltd | 0.77
Shenzhenshi Huanwei Woods Co., Ltd | 0.77
Suzhou Anxin Weiguang Timber Co., Ltd | 0.77
Suzhou Dongda Wood Co., Ltd | 0.77
Suzhou Times Flooring Co., Ltd | 0.77
Vicwood Industry (Suzhou) Co. Ltd | 0.77
Xiamen Yung De Ornament Co., Ltd | 0.77
Xinyuan Wooden Industry Co., Ltd | 0.77
Xuzhou Shenghe Wood Co., Ltd | 0.77
Yekalon Industry, Inc | 0.77
Yixing Lion-King Timber Industry Co., Ltd | 0.77
Zhejiang AnJi XinFeng Bamboo & Wood Co., Ltd | 0.77
Zhejiang Biyork Wood Co., Ltd | 0.77
Zhejiang Dadongwu GreenHome Wood Co., Ltd | 0.77
Zhejiang Desheng Wood Industry Co., Ltd | 0.77
Zhejiang Fudeli Timber Indutry Co., Ltd | 0.77
Zhejiang Haoyun Wood Co., Ltd | 0.77
Zhejiang Jeson Wood Co., Ltd | 0.77
Zhejiang Jiechen Wood Industry Co., Ltd | 0.77
Zhejiang Longsen Lumbering Co., Ltd | 0.77
Zhejiang Shiyou Timber Co., Ltd | 0.77
Zhejiang Tianzhen Bamboo & Wood Development Co., Ltd | 0.77

Disclosure and Public Comment

The Department will disclose to parties to this proceeding the calculations performed in reaching the preliminary results within five days of the date of publication of these preliminary results.⁴ Interested parties may submit written comments (case briefs) for this administrative review no later than 30 days from the date of publication of this Federal Register notice, and rebuttal comments (rebuttal briefs) within five days after the time limit for filing case briefs.⁵ Pursuant to 19 CFR 351.309(d)(2), rebuttal briefs must be limited to issues raised in the case briefs. Parties who submit arguments are requested to submit with the argument: (1) A statement of the issue; (2) a brief summary of the argument; and (3) a table of authorities.

⁴ See 19 CFR 351.224(b).

⁵ See 19 CFR 351.309(c)(1)(ii) and 351.309(d)(1).

Interested parties who wish to request a hearing, or to participate if one is requested, must submit a written request to the Assistant Secretary for Enforcement and Compliance, U.S. Department of Commerce within 30 days after the date of publication of this notice.⁶ Requests should contain the party's name, address, and telephone number, the number of participants, and a list of the issues to be discussed. If a request for a hearing is made, we will inform parties of the scheduled date for the hearing which will be held at the U.S. Department of Commerce, 14th Street and Constitution Avenue NW., Washington, DC 20230, at a time and location to be determined.⁷ Parties should confirm by telephone the date, time, and location of the hearing.

⁶ See 19 CFR 351.310(c).

⁷ See 19 CFR 351.310.

Parties are reminded that briefs and hearing requests are to be filed electronically using IA ACCESS and that electronically filed documents must be received successfully in their entirety by 5 p.m. Eastern Time on the due date.

Unless the deadline is extended pursuant to section 751(a)(3)(A) of the Act, the Department will issue the final results of this administrative review, including the results of our analysis of the issues raised by the parties in their comments, within 120 days after issuance of these preliminary results.

Assessment Rates

Consistent with section 751(a)(1) of the Act, upon issuance of the final results, the Department shall determine, and U.S. Customs and Border Protection (CBP) shall assess, countervailing duties on all appropriate entries covered by this review. We intend to issue instructions to CBP 15 days after publication of the final results of this review.

Cash Deposit Requirements

Also in accordance with section 751(a)(1) of the Act, the Department intends to instruct CBP to collect cash deposits of estimated countervailing duties in amounts shown above for each of the respective companies shown above. For all non-reviewed firms, we will instruct CBP to continue to collect cash deposits at the most recent company specific or all-others rate applicable to the company. These cash deposit requirements, when imposed, shall remain in effect until further notice.

This administrative review and notice are in accordance with sections 751(a)(1) and 777(i) of the Act and 19 CFR 351.213.

Dated: January 16, 2014.
Christian Marsh,
Deputy Assistant Secretary for Antidumping and Countervailing Duty Operations.

Appendix—List of Topics Discussed in the Preliminary Decision Memorandum

1. Summary

2. Background

3. Scope of the Order

4. Intent To Partially Rescind Administrative Review

5. Subsidies Valuation Information

6. Analysis of Programs

[FR Doc. 2014-01499 Filed 1-24-14; 8:45 am]

BILLING CODE 3510-DS-P